DEPARTMENT OF HOMELAND SECURITY

Federal Emergency Management Agency

44 CFR Part 64

[Docket No. FEMA-7780]

List of Communities Eligible for the Sale of Flood Insurance

AGENCY: Federal Emergency Management Agency (FEMA), Emergency Preparedness and Response Directorate, Department of Homeland Security.

ACTION: Final rule.

SUMMARY: This rule identifies communities that are participating and suspended from the National Flood Insurance Program (NFIP). These communities have applied to the program and have agreed to enact certain floodplain management measures. The communities' participation in the program authorizes the sale of flood insurance to owners of properties located in the communities listed below.

EFFECTIVE DATES: The effective date for each community is listed in the fourth column of the following tables.

ADDRESSES: Flood insurance policies for properties located in the communities listed below can be obtained from any licensed property insurance agent or broker serving the eligible community or from the NFIP by calling 1-800-638-6620.

FOR FURTHER INFORMATION CONTACT: Michael M. Grimm, Mitigation Division, 500 C Street SW, Room 412, Washington, DC 20472, (202) 646-2878.

SUPPLEMENTARY INFORMATION: The NFIP enables property owners to purchase flood insurance that is generally not otherwise available. In return, communities agree to adopt and administer local floodplain management measures aimed at protecting lives and new construction from future flooding. Because the communities on the attached list have recently entered the NFIP, subsidized flood insurance is now available for properties in these communities.

In addition, FEMA has identified the Special Flood Hazard Areas (SFHAs) in some of these communities by publishing a Flood Hazard Boundary Map (FHBM) or Flood Insurance Rate Map (FIRM). The date of the flood map, if one has been published, is indicated in the fourth column of the table. In the communities listed where a flood map has been published, Section 202 of the Flood Disaster Protection Act of 1973, as amended, 42 U.S.C. 4016(a), requires the purchase of flood insurance as a condition of Federal or Federally-related financial assistance for acquisition or construction of buildings in the SFHAs shown on the map.

The Administrator finds that delayed effective dates would be contrary to the public interest and that notice and public procedure under 5 U.S.C. 553(b) are impracticable and unnecessary.

National Environmental Policy Act

This rule is categorically excluded from the requirements of 44 CFR Part 10, Environmental Considerations. No environmental impact assessment has been prepared.

Regulatory Flexibility Act

The Administrator certifies that this rule will not have a significant economic impact on a substantial number of small entities in accordance with the Regulatory Flexibility Act, 5 U.S.C. 601 et seq., because the rule creates no additional burden, but lists those communities eligible for the sale of flood insurance.

Regulatory Classification

This final rule is not a significant regulatory action under the criteria of section 3(f) of Executive Order 12866 of September 30, 1993, Regulatory Planning and Review, 58 FR 51735.

Paperwork Reduction Act

This rule does not involve any collection of information for purposes of the Paperwork Reduction Act, 44 U.S.C. 3501 et seq.

List of Subjects in 44 CFR Part 64

Flood insurance, Floodplains.

Accordingly, 44 CFR Part 64 is amended as follows:

PART 64—[AMENDED]

1. The authority citation for Part 64 continues to read as follows:

Authority: 42 U.S.C. 4001 et seq., Reorganization Plan No. 3 of 1978, 3 CFR, 1978 Comp., p. 329; E.O. 12127, 44 FR 19367, 3 CFR, 1979 Comp., p. 376.

§ 64.6 [Amended]

The tables published under the authority of § 64.6 are amended as follows:

State | Location | Community No. | Effective date of eligibility | Current effective map date
New Eligibles: Emergency Program
Missouri | Hallsville, City of, Boone County | 290712 | Apr. 6, 2005 | Never Mapped.
Arkansas | Leola, City of, Grant County | 050261 | Apr. 8, 2005 | None (FHBM rescinded).
*Do | Polk County, Unincorporated Areas | 050473 | ......do | Oct. 18, 1977.
Do | Pope County Unincorporated Areas | 050458 | ......do | FHBM dated Dec. 20, 1977.
Missouri | Lake Ozark, City of, Camden County | 290698 | Apr. 15, 2005 | FHBM dated July 26, 1977.
Iowa | Ryan, City of, Delaware County | 190801 | Apr. 26, 2005 | FHBM dated Mar. 26, 1976.
Minnesota | Alden, City of, Freeborn County | 275330 | May 3, 2005 | Never Mapped.
Kansas | Republic County Unincorporated Areas | 200286 | May 5, 2005 | Do.
Montana | Wolf Point, City of, Roosevelt County | 300068 | ......do | Do.
Maine | Burlington, Town of, Penobscot County | 230374 | May 6, 2005 | FHBM dated Feb. 7, 1975.
Missouri | Wardsville, Village of, Cole County | 290633 | May 9, 2005 | Never Mapped.
Alaska | Northwest Arctic Borough | 020121 | May 17, 2005 | Do.
Alabama | Millry, Town of, Washington County | 010207 | May 18, 2005 | FHBM dated Dec. 15, 1978.
New Hampshire | Madison, Town of, Carroll County | 330220 | May 19, 2005 | FMBM dated Nov. 29, 1977.
Alabama | Belk, Town of, Fayette County | 010083 | ......do | FHBM dated Jan. 2, 1976.
North Carolina | Ansonville, Town of, Brunswick County | 370541 | ......do | Never Mapped.
Do | Bolivia, Town of, Brunswick County | 370394 | ......do | FHBM dated June 10, 1977.
Do | Navassa, Town of, Brunswick County | 370593 | ......do | Never Mapped.
Alabama | Henagar, Town of, DeKalb County | 010357 | June 6, 2005 | FHBM dated Mar. 12, 1976; Annexed areas on DeKalb County FHBM panel 0002A, dated Apr. 28, 1978.
Do | Pine Hill, Town of, Wilcox County | 010397 | ......do | FHBM dated Nov. 17, 1978; Annexed areas on Wilcox County FHBM panel 0005A, dated May 1, 1987.
Do | Powell, Town of, DeKalb County | 010398 | ......do | FHBM dated Oct. 26, 1979; Annexed areas on DeKalb County FHBM panel 0005A, dated Apr. 28, 1978.
Nebraska | Boyd County, Unincorporated Areas | 310417 | June 9, 2005 | Never Mapped.
Indiana | Sullivan County, Unincorporated Areas | 180410 | June 10, 2005 | FHBM dated Mar. 23, 1979.
Arkansas | Johnson County, Unincorporated Areas | 050441 | June 28, 2005 | Aug. 2, 1977.
New Eligibles: Regular Program
Colorado | Lone Tree, City of, Douglas County | 080319 | Apr. 8, 2005 | Use Douglas County (CID 080049) FIRM panels 0050C and 0065C, dated Sept. 30, 1987.
Massachusetts | **Tyringham, Town of, Berkshire County | 250043 | May 1, 2005 | FHBM dated Nov. 29, 1974, converted to FIRM by letter May 1, 2005.
Georgia | **Tattnall County, Unincorporated Areas | 130471 | ......do | FHBM dated Aug. 18, 1978, converted to FIRM by letter May 1, 2005.
Missouri | **Amazonia, City of, Andrew County | 290005 | ......do | FHBM dated Aug. 16, 1974, converted to FIRM by letter May 1, 2005.
Wisconsin | Hobart, Village of, Brown County | 550626 | May 3, 2005 | Use Brown County (CID 550020) FIRM panels 0075B and 0125B, dated Feb. 19, 1982.
North Carolina | Fountain, Town of, Pitt County | 370631 | May 18, 2005 | Nov. 3, 2004.
Do | Trinity, City of, Randolph County | 370195 | ......do | July 16, 1981.
South Carolina | St. Stephens, Town of, Berkeley County | 450265 | ......do | Oct. 16, 2003.
Florida | Lake Helen, City of, Volusia County | 120674 | May 19, 2005 | Apr. 15, 2005.
Tennessee | Westmoreland, Town of, Sumner County | 470415 | ......do | Nov. 21, 2002.
Florida | Trenton, City of, Gilchrist County | 120354 | May 27, 2005 | All Zone C and X, no published FIRM.
Georgia | **Blairsville, Town of, Union County | 130179 | June 1, 2005 | FHBM dated June 11, 1976, converted to FIRM by letter June 1, 2005.
Do | **Grayson, City of, Gwinnett County | 130325 | ......do | FHBM dated July 11, 1975, converted to FIRM by letter June 1, 2005.
Do | **Guyton, Town of, Effingham County | 130456 | ......do | FHBM dated July 1, 1977, converted to FIRM by letter June 1, 2005.
Tennessee | **Adams, City of, Robertson County | 470159 | ......do | FHBM dated Nov. 15, 1974, converted to FIRM by letter June 1, 2005.
Do | **Ardmore, Town of, Giles County and Lincoln County | 470293 | ......do | FHBM dated Dec. 17, 1976. Converted to FIRM by Letter June 1, 2005.
Do | **Bedford County, Unincorporated Areas | 470006 | ......do | FHBM dated Dec. 23, 1977, converted to FIRM by letter June 1, 2005.
Do | **Coffee County, Unincorporated Areas | 470355 | ......do | FHBM dated Aug. 5, 1977, converted to FIRM by letter June 1, 2005.
Do | **Lewis County, Unincorporated Areas | 470103 | ......do | FHBM dated Feb. 9, 1979, converted to FIRM by letter June 1, 2005.
Do | **Perry County, Unincorporated Areas | 470144 | ......do | FHBM dated Dec. 22, 1978, converted to FIRM by letter June 1, 2005.
Do | **Wayne County, Unincorporated Areas | 470199 | ......do | FHBM dated Mar. 16, 1979, converted to FIRM by letter June 1, 2005.
Louisiana | ** Hornbeck, Village of, Vernon Parish | 220332 | ......do | FHBM dated Aug. 15, 1975, converted to FIRM by letter June 1, 2005.
Texas | Niederwald, City of, Hays County | 481670 | June 10, 2005 | Feb. 18, 1998.
North Carolina | Pine Level, Town of, Johnston County | 370505 | June 22, 1005 | NSFHA.
Do | Yadkin County, Unincorporated Areas | 370400 | ......do | May 15, 1991.
Virginia | Alberta, Town of, Brunswick County | 510260 | June 30, 2005 | FHBM dated Feb. 25, 1977, and Brunswick County (CID 510236) FIRM panel 0075B, dated Feb. 6, 1991.
Reinstatements
Arkansas | St. Francis County, Unincorporated Areas | 050184 | Apr. 11, 2005 | Feb. 18, 2005.
Pennsylvania | Caernarvon, Township of, Lancaster County | 421763 | Apr. 21, 2005 | Apr. 19, 2005.
Do | Clay, Township of, Lancaster County | 421764 | ......do | Do.
Do | Columbia, Borough of, Lancaster County | 420543 | ......do | Do.
Do | East Drumore, Township of, Lancaster County | 421769 | ......do | Do.
Do | Lancaster, Township of, Lancaster County | 420553 | ......do | Do.
Do | Lititz, Borough of, Lancaster County | 420554 | ......do | Do.
Do | Marietta, Borough of, Lancaster County | 420558 | ......do | Do.
Do | West Lampeter, Township of, Lancaster County | 420566 | ......do | Do.
Do | Conestoga, Township of, Lancaster County | 420544 | Apr. 25, 2005 | Do.
Do | Conoy, Township of, Lancaster County | 420545 | ......do | Do.
Do | East Donegal, Township of, Lancaster County | 421768 | ......do | Do.
Do | East Earl, Township of, Lancaster County | 421770 | ......do | Do.
Do | East Petersburg, Borough of, Lancaster County | 420549 | ......do | Do.
Do | West Cocalico, Township of, Lancaster County | 421787 | ......do | Do.
Do | West Donegal, Township of, Lancaster County | 421788 | ......do | Do.
Wisconsin | Maiden Rock, Village of, Pierce County | 550327 | ......do | FIRM panel 0001C, dated Jan. 19, 1994, and Pierce County (CID 555571) FIRM panel 0200C, dated Sept. 2, 1994.
Pennsylvania | Manheim, Borough of, Lancaster County | 420555 | May 9, 2005 | Apr. 19, 2005.
Wisconsin | Balsam Lake, Village of, Polk County | 550333 | ......do | July 1, 1988.
Louisiana | Catahoula Parish, Unincorporated Areas | 220047 | June 9, 2005 | Apr. 19, 2005.
Alabama | Beaverton, Town of, Lamar County | 010134 | June 10, 2005 | July 3, 1986.
Do | Detroit, Town of, Lamar County | 010135 | ......do | June 1, 1987.
Pennsylvania | Eden, Township of, Lancaster County | 421772 | June 24, 2005 | Apr. 19, 2005.
Do | Manheim, Township of, Lancaster County. None | 420556 | ......do | Do.
Withdrawals Suspensions
Pennsylvania | Caernarvon, Borough of, Lancaster County | 421763 | Apr. 29, 1975 Emerg., May 19, 1981 Reg., Apr. 20, 2005 Susp | Apr. 19, 2005.
Do | Clay, Township of, Lancaster County | 421764 | Apr. 29, 1975 Emerg., Dec. 16, 1980 Reg., Apr. 20, 2005 Susp | Do.
Do | Colerain, Township of, Lancaster County | 421765 | Sept. 17, 1975 Emerg., Jan. 16, 1981 Reg., Apr. 20, 2005 Susp | Do.
Do | Columbia, Borough of, Lancaster County | 420543 | Mar. 9, 1973 Emerg., Jan. 6, 1982 Reg., Apr. 20, 2005 Susp | Do.
Do | Conestoga, Township of, Lancaster County | 420544 | Apr. 24, 1973 Emerg., Mar. 18, 1980 Reg., Apr. 20, 2005 Susp | Do.
Do | Conoy, Township of, Lancaster County | 420545 | July 6, 1973 Emerg., June 4, 1980 Reg., Apr. 20, 2005 Susp | Do.
Do | East Donegal, Township of, Lancaster County | 421768 | Aug. 30, 1974 Emerg., Jan. 16, 1980 Reg., Apr. 20, 2005 Susp | Do.
Do | East Drumore, Township of, Lancaster County | 421769 | Aug. 27, 1975 Emerg., Apr. 15, 1981 Reg., Apr. 20, 2005 Susp | Do.
Do | East Earl, Township of, Lancaster County | 421770 | Oct. 18, 1974 Emerg., Sept. 4, 1987 Reg., Apr. 20, 2005 Susp | Do.
Do | East Petersburg, Borough of, Lancaster County | 420549 | Sept. 27, 1974 Emerg., Sept. 5, 1979 Reg., Apr. 20, 2005 Susp | Do.
Do | Eden, Township of, Lancaster County | 421772 | July 7, 1980 Emerg., Dec. 16, 1980 Reg., Apr. 20, 2005 Susp | Do.
Do | Lancaster, Township of, Lancaster County | 420553 | Mar. 9, 1973 Emerg., Dec. 18, 1979 Reg., Apr. 20, 2005 Susp | Do.
Do | Lititz, Borough of, Lancaster County | 420554 | Oct. 6, 1972 Emerg., Oct. 15, 1980 Reg., Apr. 20, 2005 Susp | Do.
Do | Manheim, Borough of, Lancaster County | 420555 | Apr. 19, 1973 Emerg., Mar. 2, 1983 Reg., Apr. 20, 2005 Susp | Do.
Do | Manheim, Township of, Lancaster County | 420556 | July 5, 1973 Emerg., Aug. 15, 1979 Reg., Apr. 20, 2005 Susp | Do.
Do | Manor, Township of, Lancaster County | 420557 | Apr. 19, 1973 Emerg., Mar. 18, 1980 Reg., Apr. 20, 2005 Susp | Do.
Do | Marietta, Borough of, Lancaster County | 420558 | July 5, 1973 Emerg., Feb. 1, 1980 Reg., Apr. 20, 2005 Susp | Do.
Do | West Cocalico, Township of, Lancaster County | 421787 | Aug. 5, 1974 Emerg., Apr. 15, 1981 Reg., Apr. 20, 2005 Susp | Do.
Do | West Donegal, Township of, Lancaster County | 421788 | June 5, 1975 Emerg., July 16, 1981 Reg., Apr. 20, 2005 Susp | Do.
Do | West Lampeter, Township of, Lancaster County | 420566 | July 9, 1973 Emerg., Jan. 2, 1981 Reg., Apr. 20, 2005 Susp | Do.
New Hampshire | Middleton, Town of, Strafford County | 330222 | October 30, Emerg., Aug. 1, 1988 Reg., May 18, 2005 | May 17, 2005.
Probation
Indiana | Patriot, Town of, Switzerland County | 180309 | June 30, 2005, Probation Renewed | Dec. 4, 1979
Suspension Rescissions
Region V
Ohio | Lake County, Unincorporated Areas | 390771 | Apr. 5, 2005, Suspension Notice Rescinded | Apr. 5, 2005.
Do | Perry, Village of, Lake County | 390320 | ......do | Do.
Region IX
California | West Covina, City of, Los Angeles County | 060666 | ......do | Dec. 2, 2004.
Region III
Pennsylvania | Adamstown, Borough of, Lancaster County | 420541 | Apr. 19, 2005, Suspension Notice | Apr. 19, 2005.
Do | Akron, Borough of, Lancaster County | 422461 | ......do | Do.
Do | Bart, Township of, Lancaster County | 421761 | ......do | Do.
Do | Brecknock, Township of, Lancaster County | 421762 | ......do | Do.
Do | Christiana, Borough of, Lancaster County | 420542 | ......do | Do.
Do | Denver, Borough of, Lancaster County | 420546 | ......do | Do.
Do | Drumore, Township of, Lancaster County | 421766 | ......do | Do.
Do | Earl, Township of, Lancaster County | 421767 | ......do | Do.
Do | East Cocalico, Township of, Lancaster County | 420547 | ......do | Do.
Do | East Hempfield, Township of, Lancaster County | 420548 | ......do | Do.
Do | East Lampeter, Township of, Lancaster County | 421771 | ......do | Do.
Do | Elizabeth, Township of, Lancaster County | 421773 | ......do | Do.
Do | Elizabethtown, Borough of, Lancaster County | 420550 | ......do | Do.
Do | Ephrata, Borough of, Lancaster County | 420551 | ......do | Do.
Do | Fulton, Township of, Lancaster County | 421774 | ......do | Do.
Do | Lancaster, City of, Lancaster County | 420552 | ......do | Do.
Do | Leacock, Township of, Lancaster County | 420958 | ......do | Do.
Do | Little Britain, Township of, Lancaster County | 421775 | ......do | Do.
Do | Martic, Township of, Lancaster County | 421146 | ......do | Do.
Do | Millersville, Borough of, Lancaster County | 420559 | ......do | Do.
Do | Mount Joy, Borough of, Lancaster County | 420561 | ......do | Do.
Do | Mount Joy, Township of, Lancaster County | 421776 | ......do | Do.
Do | Mountville, Borough of, Lancaster County | 420560 | ......do | Do.
Do | Paradise, Township of, Lancaster County | 421777 | ......do | Do.
Do | Penn, Township of, Lancaster County | 421778 | ......do | Do.
Do | Pequea, Township of, Lancaster County | 421779 | ......do | Do.
Do | Providence, Township of, Lancaster County | 421780 | ......do | Do.
Do | Quarryville, Borough of, Lancaster County | 420563 | ......do | Do.
Do | Rapho, Township of, Lancaster County | 421781 | ......do | Do.
Do | Sadsbury, Township of, Lancaster County | 421782 | ......do | Do.
Do | Salisbury, Township of, Lancaster County | 421783 | ......do | Do.
Do | Strasburg, Township of, Lancaster County | 421784 | ......do | Do.
Do | Upper Leacock, Township of, Lancaster County | 421785 | ......do | Do.
Do | Warwick, Township or, Lancaster County | 421786 | ......do | Do.
Do | West Earl, Township of, Lancaster County | 420959 | ......do | Do.
Do | West Hempfield, Township of, Lancaster County | 421789 | ......do | Do.
Region V
Minnesota | Brooklyn Park, City of, Hennepin County | 270152 | ......do | Sept. 2, 2004.
Region VI
Oklahoma | Tuttle, Town of, Grady County | 400443 | ......do | April 19. 2005.
Region X
Washington | North Bend, City of, King County | 530085 | ......do | Do.
Region I
New Hampshire | Chester, Town of, Rockingham County | 330182 | May 17, 2005. Suspension Notice Rescinded | May 17, 2005.
Do | Farmington, Town of, Strafford County | 330147 | ......do | Do.
Do | New Castle, Town of, Rockingham County | 330135 | ......do | Do.
Do | Nottingham, Town of, Rockingham County | 330137 | ......do | Do.
Do | Rollinsford, Town of, Strafford County | 330190 | ......do | Do.
Region V
Illinois | Bellwood, Village of, Cook County | 170061 | June 2, 2005. Suspension Notice Rescinded | June 2, 2005.
Do | Broadview, Village of, Cook County | 170067 | ......do | Do.
Do | Franklin Park, Village of, Cook County | 170094 | ......do | Do.
Do | Hillside, Village of, Cook County | 170104 | ......do | Do.
Do | La Grange Park, Village of, Cook County | 170115 | ......do | Do.
Do | Maywood, Village of, Cook County | 170124 | ......do | Do.
Do | Melrose Park, Village of, Cook County | 170125 | ......do | Do.
Do | North Riverside, Village of, Cook County | 170135 | ......do | Do.
Do | Northlake, City of, Cook County | 170134 | ......do | Do.
Do | River Grove, Village of, Cook County | 170152 | ......do | Do.
Do | Stone Park, Village of, Cook County | 170165 | ......do | Do.
Do | Westchester, Village of, Cook County | 170170 | ......do | Do.
* Do = Ditto.
** Designates communities converted from Emergency Phase of participation to the Regular Phase of participation.
Code for reading fourth and fifth columns: Emerg.—Emergency; Reg.—Regular; Rein.—Reinstatement; Susp.—Suspension; With.—Withdrawn; NSFHA.—Non Special Flood Hazard Area.

(Catalog of Federal Domestic Assistance No. 83.100, “Flood Insurance.”)

Dated: September 8, 2005.
Michael K. Buckley,
Deputy Director, Mitigation Division, Emergency Preparedness and Response Directorate.

[FR Doc. 05-18556 Filed 9-16-05; 8:45 am]

BILLING CODE 9110-12-P